DEPARTMENT OF JUSTICE

Antitrust Division

Notice Pursuant to the National Cooperative Research and Production Act of 1993-Connected Media Experience, Inc.

Correction

In notice document 2010-16862 beginning on page 40851 in the issue of Wednesday, July 14, 2010 make the following correction:

On page 40851, in the third column, in the first paragraph, in the sixth line, “(“CNN”)” should read “(“CMX”)”.

[FR Doc. C1-2010-16862 Filed 7-20-10; 8:45 am]

BILLING CODE 1505-01-D